DEPARTMENT OF JUSTICE

Office of Justice Programs

Agency Information Collection Activities: Proposed Collection; Comments Requested

ACTION: 60-Day Notice of Information Collection Under Review: Financial Status Report (Short Form).

The Department of Justice (DOJ), Office of Justice Programs (OJP), Office of the Comptroller (OC), has submitted the following information collection request to the Office of Management and Budget (OMB) for review and clearance in accordance with the Paperwork Reduction Act of 1995. This proposed information collection is published to obtain comments from the public and affected agencies. Comments are encouraged and will be accepted for “sixty days” until January 9, 2006. This process is conducted in accordance with 5 CFR 1320.10.

If you have suggestions or comments especially on the estimated public burden or associated response time, or need a copy of the proposed information collection instrument with instructions, please contact Cynthia J. Schwimer, Comptroller (202) 307-0623, Office of the Comptroller, Office of Justice Programs, U.S. Department of Justice, 810 7th Street, NW., Washington, DC 20531.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• hance the quality, utility, and clarity of the information to be collected; and

• Minimize the burden of the collection of information on those who are to respond, including through the use of appropriate automated, electronic, mechanical, or other technological collection techniques or other forms of information technology, e.g., permitting electronic submission of responses.

Overview of this information:

(1) Type of information Collection: Revision of a currently approved collection.

(2) The title of the Form/Collection: Financial Status Report (Short Form).

(3) Agency form number, if any, and the applicable component of the Department of Justice sponsoring the collection: Form number: none; Office of the Comptroller, Department of Justice.

(4) Affected public who will be asked or required to respond, as well as a brief abstract: Primary: The form is completed by State, Local and Tribal Governments, who were awarded grants by the Department of Justice, Office of Justice Programs, and other cross servicing agencies. It is used as an aid for grant recipients to report the status of their expenditures.

(5) An estimate of the total number of respondents and the amount of time estimated for an average respondent to respond/reply: The estimated number of respondents is 15, 304, and the estimated time for an average respondent to reply is 30 minutes.

(6) An estimate of the total public burden (in hours) associated with the collection: There are approximately 30,608 annual burden hours associated with this collection.

If additional information is required contact: Brenda E. Dyer, Department Clearance Officer, United States Department of Justice, Justice Management Division, Policy and Planning Staff, Patrick Henry Building , Suite 1600, 601 D Street NW., Washington, DC 20530.

Dated: November 3, 2005.
Brenda E. Dyer,
Department Clearance Officer, Department of Justice.

[FR Doc. 05-22274 Filed 11-8-05; 8:45 am]

BILLING CODE 4410-18-P